COMMISSION ON CIVIL RIGHTS

Sunshine Act Notice

AGENCY: United States Commission on Civil Rights.

ACTION: Notice of meeting cancellation.

SUMMARY: On October 29, 2009 (74 FR 55809-55810) the U.S. Commission on Civil Rights announced a business meeting to be held on Friday, November 6, 2009 at the Commission's headquarters. On Wednesday, November 4, 2009, the meeting was cancelled. The decision to cancel the meeting was too close in time to the day of the meeting for the publication of a cancellation notice to appear in advance of the scheduled meeting date. The details of the cancelled meeting are:

Date and Time: Friday, November 6, 2009; 9:30 a.m. EDT.

Place: 624 9th St., NW., Room 540, Washington, DC 20425.

Meeting Agenda

This meeting is open to the public.

I. Approval of Agenda.

II. Program Planning.

• Approval of Concept Papers for FY 2010 Briefing Report Topics.

• Amendments to Title IX Briefing Report.

• Update on Status of 2010 Enforcement Report.

III. Approval of Minutes of October 30 Meeting.

IV. Announcements.

V. Staff Director's Report.

VI. Adjourn.

The Commission's next scheduled meeting is Friday, November 20, 2009, the details of which to be published in this same issue of the Federal Register.

Contact Person for Further Information: Lenore Ostrowsky, Acting Chief, Public Affairs Unit (202) 376-8591. TDD: (202) 376-8116.

Persons with a disability requiring special services, such as an interpreter for the hearing impaired, should contact Pamela Dunston at least seven days prior to the meeting at 202-376-8105. TDD: (202) 376-8116.

Dated: November 9, 2009.
David Blackwood,
General Counsel.

[FR Doc. E9-27324 Filed 11-9-09; 4:15 pm]

BILLING CODE 6335-01-P